DEPARTMENT OF THE INTERIOR

Fish and Wildlife Service

[FWS-R1-ES-2014-N247; FXES11130100000C4-156-FF01E00000]

Endangered and Threatened Wildlife and Plants; Initiation of 5-Year Status Reviews of 133 Species in Hawaii, Oregon, Idaho, and Washington

AGENCY: Fish and Wildlife Service, Interior.

ACTION: Notice of initiation of reviews; request for information.

SUMMARY: We, the U.S. Fish and Wildlife Service (Service), are initiating 5-year status reviews for 133 species in Hawaii, Oregon, Idaho, and Washington under the Endangered Species Act of 1973, as amended (Act). A 5-year status review is based on the best scientific and commercial data available at the time of the review; therefore, we are requesting submission of any new information on these species that has become available since the last review.

DATES: To ensure consideration in our reviews, we are requesting submission of new information no later than April 14, 2015. However, we will continue to accept new information about any listed species at any time.

ADDRESSES: For the 130 species in Hawaii (see table below), submit information to: Deputy Field Supervisor—Programmatic, Attention: 5-Year Review, U.S. Fish and Wildlife Service, Pacific Islands Fish and Wildlife Office, 300 Ala Moana Blvd., Room 3-122, Box 50088, Honolulu, HI 96850.

For Bradshaw's desert-parsley and Howell's spectacular thelypody, submit information to: Field Supervisor, Attention: 5-Year Review, U.S. Fish and Wildlife Service, Oregon Fish and Wildlife Office, 2600 SE 98th Avenue, Suite 100, Portland, OR 97266. Alternatively you may submit information on the Oregon species by email to: fw1or5yearreview@fws.gov.

For MacFarlane's four-o'-clock, submit information to: Field Supervisor, Attention: 5-Year Review, U.S. Fish and Wildlife Service, Idaho Fish and Wildlife Office, 1387 S. Vinnell Way, Suite 368, Boise, ID 83709.

FOR FURTHER INFORMATION CONTACT: Marie Bruegmann, U.S. Fish and Wildlife Service, Pacific Islands Fish and Wildlife Office (see ADDRESSES), 808-792-9400 (for species in Hawaii); Jeff Dillon, U.S. Fish and Wildlife Service, Oregon Fish and Wildlife Office, 503-231-6179 (for Bradshaw's desert-parsley and Howell's spectacular thelypody); or Kim Garner, Idaho Fish and Wildlife Office, 208-378-5243 (for MacFarlane's four-o'-clock). Individuals who are hearing impaired or speech impaired may call the Federal Relay Service at 800-877-8339 for TTY assistance.

SUPPLEMENTARY INFORMATION:

Why do we conduct 5-year reviews?

Under the Act (16 U.S.C. 1531 et seq.), we maintain Lists of Endangered and Threatened Wildlife and Plants (which we collectively refer to as the List) in the Code of Federal Regulations (CFR) at 50 CFR 17.11 (for animals) and 17.12 (for plants). Section 4(c)(2) of the Act requires us to review each listed species' status at least once every 5 years to determine whether it should be removed from the List; or be changed in status from endangered to threatened, or from threatened to endangered. Our regulations at 50 CFR 424.21 require that we publish a notice in the Federal Register announcing those species under active review.

What information do we consider in the review?

A 5-year review considers all new information available at the time of the review. In conducting these reviews, we consider the best scientific and commercial data that has become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to, taxonomic or nomenclatural changes, identification of erroneous information contained in the List, and improved analytical methods.

Any new information will be considered during the 5-year review and will also be useful in evaluating the ongoing recovery programs for these species.

What species are under review?

This notice announces our active review of the 133 species listed in the table below.

Species for Which We Are Initiating a 5-Year Status Review
Common name | Scientific name | Status | Where listed | Final listing rule
ANIMALS
Millerbird, Nihoa | Acrocephalus familiaris kingi | Endangered | U.S.A. (HI) | 32 FR 4001; 03/11/1967.
Wolf spider, Kauai cave | Adelocosa anops | Endangered | U.S.A. (HI) | 65 FR 2348; 01/14/2000.
Duck, Laysan | Anas laysanensis | Endangered | U.S.A. (HI) | 32 FR 4001; 03/11/1967.
Pomace fly [unnamed] | Drosophila musaphilia | Endangered | U.S.A. (HI) | 71 FR 26835; 05/09/2006.
Fly, Hawaiian picture-wing | Drosophila sharpi | Endangered | U.S.A. (HI) | 75 FR 18960; 04/13/2010.
Newcomb's snail | Erinna newcombi | Threatened | U.S.A. (HI) | 65 FR 4162; 01/26/2000.
Nukupu`u (honeycreeper) | Hemignathus lucidus | Endangered | U.S.A. (HI) | 35 FR 16047; 10/13/1970.
`Akialoa, Kauai | Hemignathus procerus | Endangered | U.S.A. (HI) | 32 FR 4001; 03/11/1967.
Akekee | Loxops caeruleirostris | Endangered | U.S.A. (HI) | 75 FR 18960; 04/13/2010.
`O`o, Kauai | Moho braccatus | Endangered | U.S.A. (HI) | 32 FR 4001; 03/11/1967.
Thrush, large Kauai | Myadestes myadestinus | Endangered | U.S.A. (HI) | 35 FR 16047; 10/13/1970.
Thrush, small Kauai | Myadestes palmeri | Endangered | U.S.A. (HI) | 32 FR 4001; 03/11/1967.
`Akikiki | Oreomystis bairdi | Endangered | U.S.A. (HI) | 75 FR 18960; 04/13/2010.
Amphipod, Kauai cave | Spelaeorchestia koloana | Endangered | U.S.A. (HI) | 65 FR 2348; 01/14/2000.
Finch, Laysan | Telespyza cantans | Endangered | U.S.A. (HI) | 32 FR 4001; 03/11/1967.
Finch, Nihoa | Telespyza ultima | Endangered | U.S.A. (HI) | 32 FR 4001; 03/11/1967.
PLANTS
No common name | Amaranthus brownii | Endangered | U.S.A. (HI) | 61 FR 43178; 08/21/1996.
No common name | Asplenium dielmannii (=Diellia mannii) | Endangered | U.S.A. (HI) | 75 FR 18960; 04/13/2010.
No common name | Asplenium dielpallidum (=Diellia pallida) | Endangered | U.S.A. (HI) | 59 FR 9304; 02/25/1994.
Pa`iniu | Astelia waialealae | Endangered | U.S.A. (HI) | 75 FR 18960; 04/13/2010.
Olulu | Brighamia insignis | Endangered | U.S.A. (HI) | 59 FR 9304; 02/25/1994.
`Awikiwiki | Canavalia napaliensis | Endangered | U.S.A. (HI) | 75 FR 18960; 04/13/2010.
Papala | Charpentiera densiflora | Endangered | U.S.A. (HI) | 75 FR 18960; 04/13/2010.
Haha | Cyanea asarifolia | Endangered | U.S.A. (HI) | 59 FR 9304; 02/25/1994.
Haha | Cyanea dolichopoda | Endangered | U.S.A. (HI) | 75 FR 18960; 04/13/2010.
Haha | Cyanea eleeleensis | Endangered | U.S.A. (HI) | 75 FR 18960; 04/13/2010.
Haha | Cyanea kolekoleensis | Endangered | U.S.A. (HI) | 75 FR 18960; 04/13/2010.
Haha | Cyanea kuhihewa | Endangered | U.S.A. (HI) | 75 FR 18960; 04/13/2010.
Haha | Cyanea recta | Threatened | U.S.A. (HI) | 61 FR 53070; 10/10/1996.
Haha | Cyanea remyi | Endangered | U.S.A. (HI) | 61 FR 53070; 10/10/1996.
No common name | Cyanea (=Delissea) rivularis | Endangered | U.S.A. (HI) | 61 FR 53070; 10/10/1996.
Haha | Cyanea undulata | Endangered | U.S.A. (HI) | 56 FR 47695; 09/20/1991.
Mapele | Cyrtandra cyaneoides | Endangered | U.S.A. (HI) | 61 FR 53070; 10/10/1996.
Ha`iwale | Cyrtandra kealiae ssp. kealiae (=Cyrtandra limahuliensis) | Threatened | U.S.A. (HI) | 59 FR 9304; 02/25/1994.
Ha`iwale | Cyrtandra oenobarba | Endangered | U.S.A. (HI) | 75 FR 18960; 04/13/2010.
Ha`iwale | Cyrtandra paliku | Endangered | U.S.A. (HI) | 75 FR 18960; 04/13/2010.
No common name | Delissea rhytidosperma | Endangered | U.S.A. (HI) | 59 FR 9304; 02/25/1994.
No common name | Doryopteris angelica | Endangered | U.S.A. (HI) | 75 FR 18960; 04/13/2010.
Aumakua, Palapalai | Dryopteris crinalis var. podosorus | Endangered | U.S.A. (HI) | 75 FR 18960; 04/13/2010.
Na`ena`e | Dubautia imbricata ssp. imbricata | Endangered | U.S.A. (HI) | 75 FR 18960; 04/13/2010.
Na`ena`e | Dubautia kalalauensis | Endangered | U.S.A. (HI) | 75 FR 18960; 04/13/2010.
Na`ena`e | Dubautia kenwoodii | Endangered | U.S.A. (HI) | 75 FR 18960; 04/13/2010.
Na`ena`e | Dubautia latifolia | Endangered | U.S.A. (HI) | 57 FR 20580; 05/13/1992.
Na`ena`e | Dubautia pauciflorula | Endangered | U.S.A. (HI) | 56 FR 47695; 09/20/1991.
Na`ena`e | Dubautia plantaginea ssp. magnifolia | Endangered | U.S.A. (HI) | 75 FR 18960; 04/13/2010.
Na`ena`e | Dubautia waialealae | Endangered | U.S.A. (HI) | 75 FR 18960; 04/13/2010.
`Akoko | Euphorbia (=Chamaesyce) eleanoriae | Endangered | U.S.A. (HI) | 75 FR 18960; 04/13/2010.
`Akoko | Euphorbia haeleeleana | Endangered | U.S.A. (HI) | 61 FR 53108; 10/10/1996.
No common name | Euphorbia (=Chamaesyce) halemanui | Endangered | U.S.A. (HI) | 57 FR 20580; 05/13/1992.
`Akoko | Euphorbia (=Chamaesyce) remyi var. kauaiensis | Endangered | U.S.A. (HI) | 75 FR 18960; 04/13/2010.
`Akoko | Euphorbia (=Chamaesyce) remyi var. remyi | Endangered | U.S.A. (HI) | 75 FR 18960; 04/13/2010.
Heau | Exocarpos luteolus | Endangered | U.S.A. (HI) | 59 FR 9304; 02/25/1994.
Nohoanu | Geranium kauaiense | Endangered | U.S.A. (HI) | 75 FR 18960; 04/13/2010.
No common name | Gouania meyenii | Endangered | U.S.A. (HI) | 56 FR 55770; 10/29/1991.
No common name | Hesperomannia lydgatei | Endangered | U.S.A. (HI) | 56 FR 47695; 09/20/1991.
Kauai hau kuahiwi | Hibiscadelphus distans | Endangered | U.S.A. (HI) | 51 FR 15903; 04/29/1986.
Hau kuahiwi | Hibiscadelphus woodii | Endangered | U.S.A. (HI) | 61 FR 53070; 10/10/1996.
Hibiscus, Clay's | Hibiscus clayi | Endangered | U.S.A. (HI) | 59 FR 9304; 02/25/1994.
Koki`o ke`oke`o | Hibiscus waimeae ssp. hannerae | Endangered | U.S.A. (HI) | 61 FR 53070; 10/10/1996.
Wawae`iole | Huperzia (=Lycopodium) nutans | Endangered | U.S.A. (HI) | 59 FR 14482; 03/28/1994.
Aupaka | Isodendrion laurifolium | Endangered | U.S.A. (HI) | 61 FR 53108; 10/10/1996.
Aupaka | Isodendrion longifolium | Threatened | U.S.A. (HI) | 61 FR 53108; 10/10/1996.
Hedyotis, Na Pali Beach | Kadua (=Hedyotis) st.-johnii | Endangered | U.S.A. (HI) | 56 FR 49639; 09/30/1991.
No common name | Keysseria erici | Endangered | U.S.A. (HI) | 75 FR 18960; 04/13/2010.
No common name | Keysseria helenae | Endangered | U.S.A. (HI) | 75 FR 18960; 04/13/2010.
Koki`o | Kokia kauaiensis | Endangered | U.S.A. (HI) | 61 FR 53070; 10/10/1996.
Kamakahala | Labordia helleri | Endangered | U.S.A. (HI) | 75 FR 18960; 04/13/2010.
Kamakahala | Labordia lydgatei | Endangered | U.S.A. (HI) | 56 FR 47695; 09/20/1991.
Kamakahala | Labordia pumila | Endangered | U.S.A. (HI) | 75 FR 18960; 04/13/2010.
Kamakahala | Labordia tinifolia var. wahiawaensis | Endangered | U.S.A. (HI) | 61 FR 53070; 10/10/1996.
No common name | Lobelia niihauensis | Endangered | U.S.A. (HI) | 56 FR 55770; 10/29/1991.
Desert-parsley, Bradshaw's | Lomatium bradshawi | Endangered | U.S.A. (OR, WA) | 53 FR 38448; 09/30/1988.
Lehua makanoe | Lysimachia daphnoides | Endangered | U.S.A. (HI) | 75 FR 18960; 04/13/2010.
No common name | Lysimachia filifolia | Endangered | U.S.A. (HI) | 59 FR 9304; 02/25/1994.
No common name | Lysimachia iniki | Endangered | U.S.A. (HI) | 75 FR 18960; 04/13/2010.
No common name | Lysimachia pendens | Endangered | U.S.A. (HI) | 75 FR 18960; 04/13/2010.
No common name | Lysimachia scopulensis | Endangered | U.S.A. (HI) | 75 FR 18960; 04/13/2010.
No common name | Lysimachia venosa | Endangered | U.S.A. (HI) | 75 FR 18960; 04/13/2010.
Nehe | Melanthera (=Lipochaeta) fauriei | Endangered | U.S.A. (HI) | 59 FR 9304; 02/25/1994.
Nehe | Melanthera (=Lipochaeta) micrantha | Endangered | U.S.A. (HI) | 59 FR 9304; 02/25/1994.
Nehe | Melanthera (=Lipochaeta) waimeaensis | Endangered | U.S.A. (HI) | 59 FR 9304; 02/25/1994.
Alani | Melicope degeneri | Endangered | U.S.A. (HI) | 75 FR 18960; 04/13/2010.
Alani | Melicope haupuensis | Endangered | U.S.A. (HI) | 59 FR 9304; 02/25/1994.
Alani | Melicope pallida | Endangered | U.S.A. (HI) | 59 FR 9304; 02/25/1994.
Alani | Melicope paniculata | Endangered | U.S.A. (HI) | 75 FR 18960; 04/13/2010.
Alani | Melicope puberula | Endangered | U.S.A. (HI) | 75 FR 18960; 04/13/2010.
Alani | Melicope quadrangularis | Endangered | U.S.A. (HI) | 59 FR 9304; 02/25/1994.
Four-o'-clock, MacFarlane's | Mirabilis macfarlanei | Threatened | U.S.A. (ID, OR) | 61 FR 10693; 03/15/1996.
Kolea | Myrsine knudsenii | Endangered | U.S.A. (HI) | 75 FR 18960; 04/13/2010.
Kolea | Myrsine linearifolia | Threatened | U.S.A. (HI) | 61 FR 53070; 10/10/1996.
Kolea | Myrsine mezii | Endangered | U.S.A. (HI) | 75 FR 18960; 04/13/2010.
`Aiea | Nothocestrum peltatum | Endangered | U.S.A. (HI) | 59 FR 9304; 02/25/1994.
Lau `ehu | Panicum niihauense | Endangered | U.S.A. (HI) | 61 FR 53108; 10/10/1996.
No common name | Phyllostegia knudsenii | Endangered | U.S.A. (HI) | 61 FR 53070; 10/10/1996.
No common name | Phyllostegia renovans | Endangered | U.S.A. (HI) | 75 FR 18960; 04/13/2010.
No common name | Phyllostegia waimeae | Endangered | U.S.A. (HI) | 59 FR 9304; 02/25/1994.
No common name | Phyllostegia wawrana | Endangered | U.S.A. (HI) | 61 FR 53070; 10/10/1996.
Ho`awa | Pittosporum napaliense | Endangered | U.S.A. (HI) | 75 FR 18960; 04/13/2010.
Pilo kea lau li`i | Platydesma rostrata | Endangered | U.S.A. (HI) | 75 FR 18960; 04/13/2010.
Bluegrass, Mann's | Poa mannii | Endangered | U.S.A. (HI) | 59 FR 56330; 11/10/1994.
Bluegrass, Hawaiian | Poa sandvicensis | Endangered | U.S.A. (HI) | 57 FR 20580; 05/13/1992.
No common name | Poa siphonoglossa | Endangered | U.S.A. (HI) | 57 FR 20580; 05/13/1992.
No common name | Polyscias (=Tetraplasandra) bisattenuata | Endangered | U.S.A. (HI) | 75 FR 18960; 04/13/2010.
No common name | Polyscias (=Tetraplasandra) flynnii | Endangered | U.S.A. (HI) | 75 FR 18960; 04/13/2010.
No common name | Polyscias racemosa (=Munroidendron racemosum) | Endangered | U.S.A. (HI) | 59 FR 9304; 02/25/1994.
Lo`ulu, (=Na`ena`e) | Pritchardia hardyi | Endangered | U.S.A. (HI) | 75 FR 18960; 04/13/2010.
Lo`ulu | Pritchardia napaliensis | Endangered | U.S.A. (HI) | 61 FR 53070; 10/10/1996.
Lo`ulu | Pritchardia viscosa | Endangered | U.S.A. (HI) | 61 FR 53070; 10/10/1996.
Lo`ulu | Pritchardia remota | Endangered | U.S.A. (HI) | 61 FR 43178; 08/21/1996.
Kopiko | Psychotria grandiflora | Endangered | U.S.A. (HI) | 75 FR 18960; 04/13/2010.
Kopiko | Psychotria hobdyi | Endangered | U.S.A. (HI) | 75 FR 18960; 04/13/2010.
Kaulu | Pteralyxia kauaiensis | Endangered | U.S.A. (HI) | 59 FR 9304; 02/25/1994.
No common name | Remya kauaiensis | Endangered | U.S.A. (HI) | 56 FR 1450; 01/14/1991.
No common name | Remya montgomeryi | Endangered | U.S.A. (HI) | 56 FR 1450; 01/14/1991.
Ma`oli`oli | Schiedea apokremnos | Endangered | U.S.A. (HI) | 56 FR 49639; 09/30/1991.
No common name | Schiedea attenuata | Endangered | U.S.A. (HI) | 75 FR 18960; 04/13/2010.
No common name | Schiedea helleri | Endangered | U.S.A. (HI) | 61 FR 53070; 10/10/1996.
No common name | Schiedea kauaiensis | Endangered | U.S.A. (HI) | 61 FR 53108; 10/10/1996.
Kuawawaenohu | Schiedea (=Alsinidendron) lychnoides | Endangered | U.S.A. (HI) | 61 FR 53070; 10/10/1996.
No common name | Schiedea membranacea | Endangered | U.S.A. (HI) | 61 FR 53070; 10/10/1996.
No common name | Schiedea spergulina var. leiopoda | Endangered | U.S.A. (HI) | 59 FR 9304; 02/25/1994.
No common name | Schiedea spergulina var. spergulina | Threatened | U.S.A. (HI) | 59 FR 9304; 02/25/1994.
Laulihilihi | Schiedea stellarioides | Endangered | U.S.A. (HI) | 61 FR 53070; 10/10/1996.
No common name | Schiedea verticillata | Endangered | U.S.A. (HI) | 61 FR 43178; 08/21/1996.
No common name | Schiedea viscosa (=Alsinidendron viscosum) | Endangered | U.S.A. (HI) | 61 FR 53070; 10/10/1996.
`Aiakeakua, popolo | Solanum sandwicense | Endangered | U.S.A. (HI) | 59 FR 9304; 02/25/1994.
No common name | Stenogyne campanulata | Endangered | U.S.A. (HI) | 57 FR 20580; 05/13/1992.
No common name | Stenogyne kealiae | Endangered | U.S.A. (HI) | 75 FR 18960; 04/13/2010.
Thelypody, Howell's spectacular | Thelypodium howellii ssp. spectabilis | Threatened | U.S.A. (OR) | 64 FR 28393; 5/26/1999.
No common name | Viola helenae | Endangered | U.S.A. (HI) | 56 FR 47695; 09/20/1991.
Nani wai`ale`ale | Viola kauaensis var. wahiawaensis | Endangered | U.S.A. (HI) | 61 FR 53070; 10/10/1996.
Iliau, dwarf | Wilkesia hobdyi | Endangered | U.S.A. (HI) | 57 FR 27859; 06/22/1992.
No common name | Xylosma crenatum | Endangered | U.S.A. (HI) | 57 FR 20580; 05/13/1992.

Request for New Information

To ensure that a 5-year review is complete and based on the best available scientific and commercial information, we request new information from all sources. See “What Information Do We Consider in Our Review?” for specific criteria. If you submit information, please support it with documentation such as maps, bibliographic references, methods used to gather and analyze the data, and/or copies of any pertinent publications, reports, or letters by knowledgeable sources.

If you wish to provide information for any species listed above, please submit your comments and materials to the appropriate contact in the Oregon Fish and Wildlife Office, Idaho Fish and Wildlife Office, or Pacific Islands Fish and Wildlife Office (see ADDRESSES section).

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Completed and Active Reviews

A list of all completed and currently active 5-year reviews addressing species for which the Pacific Region of the Service has lead responsibility is available at http://www.fws.gov/pacific/ecoservices/endangered/recovery/5year.html.

Authority

This document is published under the authority of the Endangered Species Act of 1973, as amended (16 U.S.C. 1531 et seq.).

Dated: January 6, 2015.
Richard Hannan,
Acting Regional Director, Pacific Region, U.S. Fish and Wildlife Service.

[FR Doc. 2015-03015 Filed 2-12-15; 8:45 am]

BILLING CODE 4310-55-P